DEPARTMENT OF ENERGY

Federal Energy Regulatory Commission

Combined Notice of Filings

Take notice that the Commission has received the following Natural Gas Pipeline Rate and Refund Report filings:

Filings Instituting Proceedings

Docket Number: PR17-37-000.

Applicants: Atlanta Gas Light Company.

Description: Tariff filing per 284.123(b), (e)+(g): Rate Change to Reflect Change in State-Approved Rates to be effective 3/1/2017; Filing Type: 1300.

Filed Date: 3/30/17.

Accession Number: 201703305274.

Comments Due: 5 p.m. ET 4/20/17.

284.123(g) Protests Due: 5 p.m. ET 5/30/17.

Docket Number: PR17-38-000.

Applicants: Montana-Dakota Utilities Co.

Description: Tariff filing per 284.123(b), (e)+(g): Revision to Statement of Effective Rates to be effective 1/1/2017; Filing Type: 1300.

Filed Date: 3/31/17.

Accession Number: 201703315165.

Comments Due: 5 p.m. ET 4/21/17.

284.123(g) Protests Due: 5 p.m. ET 5/30/17.

Docket Number: PR17-39-000.

Applicants: Columbia Gas of Ohio, Inc.

Description: Tariff filing per 284.123(b), (e)/: COH SOC to be effective 3/30/2017; Filing Type: 980.

Filed Date: 3/31/17.

Accession Number: 201703315312.

Comments/Protests Due: 5 p.m. ET 4/21/17.

Docket Number: PR17-31-001.

Applicants: Southern California Gas Company.

Description: Tariff filing per 284.123(b), (e)+(g): Revision to rates for Offshore Delivery (OSHD) Refile 2 to be effective 1/1/2017; Filing Type: 1270.

Filed Date: 4/3/17.

Accession Number: 201704035504.

Comments Due: 5 p.m. ET 4/24/17.

284.123(g) Protests Due: 5 p.m. ET 5/1/17.

Docket Numbers: RP17-256-001.

Applicants: Texas Eastern Transmission, LP.

Description: Texas Eastern Transmission, LP submits tariff filing per 154.203: Gas Quality Settlement—RP17-256 Compliance Filing to be effective 6/1/2017.

Filed Date: 04/05/2017.

Accession Number: 20170405-5021.

Comment Date: 5:00 p.m. Eastern Time on Monday, April 17, 2017.

Docket Numbers: RP17-643-000.

Applicants: Gulf South Pipeline Company, LP.

Description: Gulf South Pipeline Company, LP submits tariff filing per 154.204: Amendment to Neg Rate Agmt (FPL 41618-26) to be effective 4/5/2017.

Filed Date: 04/05/2017.

Accession Number: 20170405-5180.

Comment Date: 5:00 p.m. Eastern Time on Monday, April 17, 2017.

Docket Numbers: RP17-644-000.

Applicants: Gulf South Pipeline Company, LP.

Description: Gulf South Pipeline Company, LP submits tariff filing per 154.204: Remove Expired Agreements (Castleton 460, Wells Fargo 1696) to be effective 5/1/2017.

Filed Date: 04/05/2017.

Accession Number: 20170405-5303.

Comment Date: 5:00 p.m. Eastern Time on Monday, April 17, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2017.
Kimberly D. Bose,
Secretary.

[FR Doc. 2017-07542 Filed 4-13-17; 8:45 am]

BILLING CODE 6717-01-P